CORPORATION FOR NATIONAL AND COMMUNITY SERVICE

Agency Information Collection Activities; Submission to the Office of Management and Budget for Review and Approval; Comment Request; Application Package for AmeriCorps Seniors Application Instructions, Progress Reporting, Independent Living and Respite Surveys

AGENCY: Corporation for National and Community Service.

ACTION: Notice of information collection; request for comment.

SUMMARY: The Corporation for National and Community Service, operating as AmeriCorps, has submitted a public information collection request (ICR) for review and approval in accordance with the Paperwork Reduction Act.

DATES: Written comments must be submitted to the individual and office listed in the ADDRESSES section by August 11, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Robin Corindo, at (202) 489-5578 or by email to rcorindo@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on April 27, 2023 at 88 FR 25625. This comment period ended June 27, 2023. The Notice received 32 public comments, of which 26 were identical. Of the other comments, one was in support and one was without specific comment. The others detailed how completing the Progress Report Supplement (PRS) is a burden. AmeriCorps Seniors agrees that the reporting reporting requirements of the PRS may be burdensome and is therefore reducing the number of questions it requires within it. The PRS is the only document with proposed revisions.

Comment: AmeriCorps Seniors grants are awarded for a three-year period with required annual budget submissions. ASPN questions the value and additional time needed to update the grant application and workplan submission annually. With a three-year performance period, ASPN proposes for a grantee to submit an annual budget application and an executive summary to update amended community needs and changes instead of the entire grant application. This change would not only reduce the time needed of grantee staff, but also regional staff grant reviewers.

AmeriCorps Response: AmeriCorps is in the process of modernizing our grant management systems. As part of the modernization effort, AmeriCorps will propose that grantees submit a simplified budget application and an update through a simplified amendment process, rather than an entire grant continuation application.

Comment: While the Progress Report at the end of a grant year is straightforward, there is confusion as to how much information is needed in the narrative section. Instructions about the examples of info that is most helpful in the narrative sections would be welcome.

AmeriCorps Response: In addition to Progress Report Instructions and training, AmeriCorps provides Appendix A.4—AmeriCorps Seniors Progress Report Tips in each Program Handbook. This document shares examples about what information is worth considering for the narrative sections of the Progress Report. In addition, grantees can also speak with their Portfolio Manager about the type and extent of information they should include.

Comment: The Progress Report Supplement has been referred to as many different things over the years. With current Performance Measure workplans being very specific as to the special needs served by volunteers, this complete demographic report is burdensome for both program and station staff. ASPN has been told that there is no way for [AmeriCorps] to aggregate the data reported into a national needs snapshot. As such, ASPN strongly believes that if [AmeriCorps is] unable to aggregate this data, programs should not be asked to collect it. The current reporting dates do not take into account grant years; therefore, programs are reporting on portions of two different grant years, causing the information to often be incorrect. Demographics of the volunteers should be rolled into the annual Progress Report. The PPR-S should be eliminated and would reduce the administrative burden for both grantees and agency staff.

AmeriCorps Response: AmeriCorps can and does aggregate the demographic section of the Progress Report Supplement (PRS). We are in the process of updating our grant management systems so that volunteer information can be entered directly into the system. AmeriCorps Seniors anticipates that this will eliminate the need for the PRS and reduce the administrative burden for grantees and agency staff.

Comment: Independent Living and Respite Surveys: [Senior Companion Program] (SCP) directors report that national workplans do not require all the information requested on these surveys. If the workplan does not request the information, it would be best if those questions were eliminated from the survey and would possibly result in a better return on the number of clients completing the surveys. As Senior Companions serve those with dementia, it is often the caregiver of the client that completes this survey. In an effort to [lessen] caregiver burden, a shortened survey could be more easily completed which would then, in turn, produce a better response rate.

AmeriCorps Response: AmeriCorps Seniors disagrees that, at only 13 questions, this survey is too burdensome. Nevertheless, AmeriCorps Seniors will review the Independent Living and Respite Survey, and is interested in the specific questions which SCP Directors propose to be eliminated.

Title of Collection: Application Package for AmeriCorps Seniors Applications Instructions, Progress Reporting, Independent Living and Respite Surveys.

OMB Control Number: 3045-0143. Type of Review: Renewal with change.

Respondents/Affected Public: Organizations and State, Local or Tribal Governments.

Total Estimated Number of Annual Responses: 1,250.

Total Estimated Number of Annual Burden Hours: 6,250.

Abstract: The AmeriCorps Seniors Grant Application is used by prospective and existing sponsors of AmeriCorps Seniors projects under the AmeriCorps Seniors RSVP (RSVP), AmeriCorps Seniors FGP (FGP), AmeriCorps Seniors (SCP), and AmeriCorps Seniors Senior Demonstration Program (SDP). The Project Progress Report and Project Report Supplement will be used to report progress toward accomplishing work plan goals and objectives, reporting volunteer and service outputs, reporting actual outcomes of self-nominated performance measures, meeting challenges encountered, describing significant activities, and requesting technical assistance. The Application Instructions and PPR and PRS forms in this package conform to AmeriCorps' web-based electronic grants management system. The SCP Independent Living Survey and SCP Respite Survey are instruments that collect information from a sample of Senior Companion clients and caregivers. The purpose of the surveys is to assess the feasibility of conducting a longitudinal, quasi-experimental evaluation of the impact of independent living and respite services on clients' social ties and perceived social support. The results of the surveys may also be used to inform the feasibility of using a similar instrument to measure client and caregiver outcomes for an evaluation of RSVP. AmeriCorps seeks to renew the current information collection with revisions. The revisions are intended to capture the socioeconomic status of AmeriCorps Seniors volunteers. The information collection will otherwise be used in the same manner as the existing application. AmeriCorps also seeks to continue using the current application until the revised application is approved by OMB. The current application is due to expire on March 31, 2025.

Danielle Melfi,
Chief Program Officer.

[FR Doc. 2023-14776 Filed 7-11-23; 8:45 am]

BILLING CODE 6050-28-P